DEPARTMENT OF TRANSPORTATION

National Highway Traffic Safety Administration

[Docket No. NHTSA-2013-0021, Notice 2]

Decision That Nonconforming Model Year 2000 East Lancashire Coachbuilders Limited Double Decker Tri-Axle Buses (With Volvo B7L Chassis) Are Eligible for Importation

AGENCY: National Highway Traffic Safety Administration (NHTSA), Department of Transportation (DOT).

ACTION: Grant of petition.

SUMMARY: This document announces a decision by the National Highway Traffic Safety Administration that certain model year (MY) 2000 East Lancashire Coachbuilders Limited Double Decker Tri-Axle buses (with Volvo B7L Chassis) that were not originally manufactured to comply with all applicable Federal Motor Vehicle Safety Standards (FMVSS) are eligible for importation into the United States because they have safety features that comply with, or are capable of being altered to comply with, all applicable FMVSS.

DATES: This decision became effective on July 30, 2015.

ADDRESSES: For further information contact George Stevens, Office of Vehicle Safety Compliance, NHTSA (202-366-5308).

SUPPLEMENTARY INFORMATION:

Background

Under 49 U.S.C 30141(a)(1)(B),a motor vehicle that was not originally manufactured to conform to all applicable FMVSS shall be refused admission into the United States unless NHTSA has decided its safety features comply with, or are capable of being altered to comply with, all applicable FMVSS based on destructive test data or such other evidence that NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

US Specs, of Havre de Grace, Maryland (“US Specs”) (Registered Importer No. RI-03-321), petitioned NHTSA to decide whether MY 2000 East Lancashire Coachbuilders Limited Double Decker Tri-Axle buses (with Volvo B7L Chassis) are eligible for importation into the United States. NHTSA published a notice of the petition on January 26, 2015 (80 FR 4033) to afford an opportunity for public comment. No comments were received. The reader is referred to that notice for a thorough description of the petition.

NHTSA Conclusions

NHTSA has reviewed the petition and supporting information submitted by US Specs and has concluded that the vehicles covered by the petition have safety features that are capable of being altered to comply with all applicable FMVSS.

NHTSA has also determined that because the subject vehicles were manufactured in two or more stages, any Registered Importer (RI) that imports the subject vehicles must provide separate proof that the chassis and the body of each vehicle are the originals used by East Lancashire Coachbuilders Limited when manufacturing the bus for the subject model year. Such proof shall be provided as part of the statement of conformity and associated documents (referred to as a “conformity package”) the RI must submit to NHTSA under 49 CFR 592.6(d) to obtain release of the DOT Conformance bond furnished at the time the vehicle is imported.

Because it is common practice for transit bus bodies to have seating and other interior modifications made during use for the purposes of update and repair, it is expected that after many years in service at least some of the buses eligible for importation under this decision will not have the same interior configuration, controls and displays, etc., as the vehicle(s) described in the petition. Therefore, NHTSA has decided that RIs must also include in each conformity package specific proof to confirm that the vehicle was originally manufactured to conform to, or was successfully altered to conform to, each applicable standard. Any components that differ from the original equipment installed on the vehicle must be fully described, and if the presence of that component could impact the vehicle's compliance with an applicable safety standard, the conformity package must include reports of testing or inspection sufficient to establish the vehicle's compliance with that standard with the component installed. This additional information must also be supplied any time an alteration that requires replacement of a nonconforming system, such as the vehicle driver's seat or accelerator control system, differs from that originally described in the petition.

In addition to the modifications described in the petition as needed to conform the vehicle to all applicable FMVSS, NHTSA has decided that additional or alternative modifications must be performed, and, for some of those modifications, proof of conformance must be provided in the conformity package, as set forth below.

Standard No. 108—Lamps, Reflective Devices and Associated Equipment: The conformity package must include documentation from the lighting manufacturer for each lamp mounted on the bus showing that the lamp has been certified as conforming to FMVSS No. 108 for the purpose for which the lamp is used. Specific proof that the headlamps meet the operating voltage requirements of FMVSS No. 108 must also be provided in the conformity package.

Standard No. 121—Air Brake Systems: Inspection of each bus to specifically verify that the critical components listed below (by the applicable paragraph in FMVSS No. 121) are present, are significantly similar to those originally installed on the Volvo B7L chassis and function as required for compliance with FMVSS No. 121. Should any part not be present, or prevent compliance with the requirements of the standard as installed, modification of the bus and proof of conformance after modification must be included with each conformity package.

S5.1.1—Data related to reservoir volumes necessary to demonstrate conformance to compressor recharge rate.

S5.1.2.3—Check valves to protect against reservoir air loss.

S5.1.2.4—Manually operated condensate drain valve for reservoirs.

S5.1.4—In-dash pressure gauge.

S5.1.5—Device that gives a low pressure warning in accordance with this section.

S5.1.8(a)—Automatic slack adjusters.

S5.1.6.2—In-dash ABS malfunction indicator lamp/check lamp function.

S5.6.4—Identification of the method of control operation of the parking brake control.

Photographs of all brake system related controls and displays must also be included in each conformity package.

Standard No. 124—Accelerator Control Systems: Installation of a specific accelerator control system to meet the requirements of this standard was described in the petition. Documentation showing that, as modified, the vehicle conforms to the standard must be provided in each conformity package.

Standard No. 205—Glazing Materials: All glazing replaced to meet the requirements of FMVSS No. 217 must also meet all applicable requirements of FMVSS No. 205. In addition, all glazing must be inspected for compliance with FMVSS No. 205. Any noncompliant glazing must be replaced with compliant glazing and proof of compliance must be included in each conformity package.

Standard No. 217—Bus Emergency Exits and Window Retention and Release: The petition states that the vehicles must be modified by installation of an emergency escape hatch and emergency escape windows in a manner consistent with the requirements of this standard. Test reports were submitted in an effort to demonstrate that compliance with the standard can be achieved after these modifications are performed. Photographs (including images of all required labeling) and bus plan view drawings showing the location and operation of all exits, must be provided with each conformity package.

Standard No. 302—Flammability of Interior Materials: Documentation showing how the RI has confirmed that all interior components on each bus conform to all applicable requirements of this standard, including any test reports not submitted as part of the petition, must be provided with each conformity package.

Decision

Accordingly, on the basis of the foregoing, NHTSA hereby decides that MY 2000 East Lancashire Coachbuilders Limited Double Decker Tri-Axle buses (mounted on a Volvo B7L Chassis), that were not originally manufactured to comply with all applicable FMVSS, are capable of being altered to conform to all applicable Federal Motor Vehicle Safety Standards.

Vehicle Eligibility Number for Subject Vehicles

The importer of a vehicle admissible under any final decision must indicate on the form HS-7 accompanying entry the appropriate vehicle eligibility number indicating that the vehicle is eligible for entry. VCP-59 is the vehicle eligibility number assigned to vehicles admissible under this notice of final decision.

Authority: 49 U.S.C. 30118, 30120: Delegations of authority at 49 CFR 1.95 and 501.8.

Issued on: July 30, 2015.
John Finneran,
Acting Director, Office of Vehicle Safety Compliance.

[FR Doc. 2015-19210 Filed 8-4-15; 8:45 am]

BILLING CODE 4910-59-P